DEPARTMENT OF AGRICULTURE

Forest Service

American and Crooked River Project, Nez Perce National Forest, Idaho County, ID

AGENCY: Forest Service, USDA.

ACTION: Notice of intent to prepare an environmental impact statement.

SUMMARY: The USDA, Forest Service, Nez Perce National Forest, will prepare an Environmental Impact Statement (EIS) to document the analysis and disclose the environment impacts of actions to reduce existing and potential forest fuel hazards and salvage associated commercial wood products resulting from a mountain pine beetle epidemic in lodgepole pine forests in the American and Crooked River watersheds near Elk City, Idaho. Additional actions include construction of temporary roads, improvements to existing roads, and decommissioning existing roads that are no longer needed.

DATES: Comments concerning the scope of the analysis must be received by October 29, 2003. The draft environmental impact statement is expected to be released for public comment in March 2004 and the final environmental impact statement is expected to be completed in July 2004.

ADDRESSES: Send written comments to Bruce Bernhardt, Forest Supervisor, Nez Perce National Forest, Rt 2 Box 475, Grangeville, Idaho 83530.

FOR FURTHER INFORMATION CONTACT: Phil Jahn, Project Coordinator, Nez Perce National Forest, Rt 2 Box 475, Grangeville, Idaho 83530, or phone (208) 983-1950.

Purpose and Need for Action

The purpose and need for the project is to reduce existing and potential forest fuels, create stand or site conditions that will contribute to the maintenance and establishment of long-lived fire tolerant tree species, such as Ponderosa pine and western larch, and contribute to the economic and social well being of the people within the surrounding area.

Proposed Action

The USDA, Forest Service, Nez Perce National Forest, will prepare an Environmental Impact Statement (EIS) to document the analysis and disclose the environmental impacts of the proposed action to reduce existing and potential forest fuel hazards, which have been exacerbated by a mountain pine beetle epidemic in lodgepole pine forests in the American and Crooked River watersheds near Elk City, Idaho. The proposed action is to harvest or otherwise treat forest stands by salvaging dead, dying, or down trees and removing trees that are at risk from mountain pine beetle attack. Lodgepole pine is the primary at-risk tree species in the project area. Incidental harvest of trees that are dead and dying from other associated insects and disease would also be conducted in the project area. This proposal would not treat of directly modify forested stands that currently meet the definition of “old growth” under the Old-Growth Forrest Types of the Northern Region-USDA Forest Service, R-1 SES 4/92.

Proposed activities include vegetation and transportation system treatment actions on approximately 900 acres in the American River watershed and 2,100 acres in the Crooked River watershed. Approximately 1,900 acres would be harvested using regeneration treatments that would reserve groups and single trees within harvest units and approximately 1,100 acres would be harvested using seed tree, shelterwood, and commercial thinning silvicultural treatments. Activity fuels generated from harvest on approximately 3,000 acres would be treated using a combination of machine piling and broadcast burning.

An estimated 15 miles of temporary road would be constructed as part of the proposed action; these temporary roads would be decommissioned after use associated slash treatment or brush disposal and reforestation activities. This proposal includes reconstruction or improvement of 24 miles of existing roads to provide access to proposed harvest units while improving drainage, improving fish passage, or reducing the potential for sedimentation. Up to 30 miles of existing Forest roads, which have been identified through roads analysis as being no longer needed for administrative purposes, would be decommissioned as part of the proposed action.

The project does not propose to mechanically treat vegetation or construct roads in existing inventoried roadless areas. There is no proposed construction of new permanent roads in the proposed action.

Responsible Official

Bruce Bernhardt, Nez Perce National Forest Supervisor, Nez Perce National Forest Headquarters, Rt 2 Box 475 Grangeville, Idaho 83530.

Nature of Decision To Be Made

The nature of the decision in attaining the purpose and need is to determine the type and level of silvicultural treatments, and transportation projects needed within the scope of the Nez Perce National Forest Plan, 1987, and to determine a course of action to implement these actions.

Scoping Process

This Notice of Intent provides a description of the proposed action for public review and comment. The Forest Service is coordinating efforts with the USDI Bureau of Land Management, the Nez Perce Tribe, Idaho Department of Fish and Game, Idaho Department of Environmental Quality, National Marine Fisheries Service, USDI Fish and Wildlife Service, U.S. Environmental Protection Agency, and other agencies and groups. To generate meaningful dialogue with the public, Nez Perce National Forest staff will issue local press releases and other opportunities for the interested public to meet or discuss the project as it develops.

Comment Requested

This notice of intent initiates the scoping process that guides development of the environmental impact statement.

Early Notice of Importance of Public Participation in Subsequent Environmental Review

A draft environmental impact statement will be prepared for comment. The comment period on the draft environmental impact statement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodle, 803 F.2d 1016, 1022 (9th Cir. 1986) Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, Section 21)

Dated: September 12, 2003.
Bruce E. Bernhardt,
Nez Perce Forest Supervisor.

[FR Doc. 03-24266 Filed 9-24-03; 8:45 am]

BILLING CODE 3410-11-M